DEPARTMENT OF ENERGY

Federal Energy Regulatory Commission

[Docket No. RP00-371-001]

Northern Border Pipeline Company; Notice of Compliance Filing

August 17, 2000.

Take notice that on August 14, 2000, Northern Border Pipline Company (Northern Border) tendered for filing to become part of Northern Border Pipeline Company's FERC Gas Tariff, First Revised Volume No. 1, the following tariff sheets to become effective July 1, 2000:

Substitute First Revised Sheet Number 120

Substitute Second Revised Sheet Number 121

Substitute Second Revised Sheet Number 275

The purpose of this filing is to comply with the Commission's letter order issued July 28, 2000 in Docket No. RP00-371-000. The Commission's July 28, 2000 letter order required Northern Border to revise language on three of the proposed tariff sheets. In this filing, Northern Border is proposing tariff language in accordance with the Commission's July 28, 2000 letter order. In subsection 5.12 of First Revised Sheet Number 120, Northern Border has revised the first sentence to reference the five year matching limitation. In subsection 5.13 of Sheet Number 120 and subsection 5.22 on Substitute Second Revised Sheet Number 121, no changes are now being proposed to the currently effective tariff language, “fully allocated cost”. On Substitute Second Revised Sheet Number 275, subsection 27.21 (a) and (b), the words “an effective” was deleted and replaced with the word “a”.

Any person desiring to protest this filing should file a protest with the Federal Energy Regulatory Commission, 888 First Street, N.E., Washington, D.C. 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21444 Filed 8-22-00; 8:45 am]

BILLING CODE 6717-01-M